DEPARTMENT OF THE INTERIOR

Bureau of Land Management

[UTU 016431]

Public Land Order No. 7665; Partial Revocation of Public Land Order No. 1483; Utah

AGENCY: Bureau of Land Management, Interior.

ACTION: Public Land Order.

SUMMARY: This order partially revokes a Public Land Order insofar as it affects 160 acres of public lands within national forests, which were withdrawn and reserved for use of the Forest Service as administrative sites, recreation areas, and a roadside zone.

DATES: Effective Date: July 19, 2006.

FOR FURTHER INFORMATION CONTACT: Marsha Fryer, Forest Service, Intermountain Region, 324-25th Street, Ogden, Utah 84401-2310, 801-625-5802.

SUPPLEMENTARY INFORMATION: The Forest Service has determined that a withdrawal is no longer needed on the lands described in this order and has requested the partial revocation. The lands will not be opened to surface entry or mining until completion of an analysis to determine if any of the lands need special designation.

Order

By virtue of the authority vested in the Secretary of the Interior by section 204 of the Federal Land Policy and Management Act of 1976, 43 U.S.C. 1714 (2000), it is ordered as follows:

Public Land Order No. 1483 (22 FR 7307-8, September 13, 1957), which withdrew public lands within national forests and reserved them for use of the Forest Service as administrative sites, recreation areas, and a roadside zone, is hereby revoked only insofar as it affects the following described lands:

Wasatch National Forest

Henrys Fork Bridge Recreation Area

Salt Lake Meridian

T. 2 N., R. 14 E.,

Sec. 1, SW¼NW¼ and NW¼SW¼;

Sec. 2, SE¼NE¼ and NE¼SE¼.

The area described contains 160 acres in Summit County.

Dated: June 27, 2006.
R. Thomas Weimer,
Assistant Secretary of the Interior.

[FR Doc. E6-11447 Filed 7-18-06; 8:45 am]

BILLING CODE 3410-11-P